DEPARTMENT OF HOMELAND SECURITY

Coast Guard

46 CFR Part 67

[Docket No. USCG-2010-1124]

Application for Foreign Rebuilding Determination

AGENCY: Coast Guard, DHS.

ACTION: Request for comments.

SUMMARY: The Coast Guard seeks public comments on a petition for rulemaking that requests the Coast Guard to amend 46 CFR 67.177, Application for foreign rebuilding determination. The Coast Guard will consider all comments received as part of its determination on whether or not to initiate the requested rulemaking.

DATES: Comments and related material must either be submitted to our online docket via http://www.regulations.gov on or before May 26, 2011, or reach the Docket Management Facility by that date.

ADDRESSES: You may submit comments identified by docket number USCG-2010-1124 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand Delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or e-mail Commander Sandra Selman, Executive Secretary, Maritime Safety and Security Council, U.S. Coast Guard; telephone 202-372-3857, e-mail Sandra.K.Selman@uscg.mil. If you have questions on viewing or submitting material to the docket, call Renee V. Wright, Program Manager, Docket Operations, telephone 202-366-9826.

SUPPLEMENTARY INFORMATION:

Public Participation and Request for Comments

We encourage you to respond to this notice by submitting comments and related materials. All comments received will be posted without change to http://www.regulations.gov and will include any personal information you have provided.

A. Submitting Comments

If you submit a comment, please include the docket number for this notice (USCG-2010-1124), indicate the specific section of the petition for rulemaking to which each comment applies, and provide a reason for each suggestion or recommendation. You may submit your comments and material online or by fax, mail, or hand delivery, but please use only one of these means. We recommend that you include your name and a mailing address, an e-mail address, or a phone number in the body of your document so that we can contact you if we have questions regarding your submission.

To submit your comment online, go to http://www.regulations.gov and type “USCG-2010-1124” in the “Keyword” box. If you submit your comments by mail or hand delivery, submit them in an unbound format, no larger than 8½ by 11 inches, suitable for copying and electronic filing. If you submit comments by mail and would like to know that they reached the Facility, please enclose a stamped, self-addressed postcard or envelope.

We will consider all comments and material received during the comment period in determining how to respond to this petition for rulemaking.

B. Viewing Comments and Documents

To view comments and the petition referenced in this notice, go to http://www.regulations.gov, click on the “read comments” box, which will then become highlighted in blue. In the “Keyword” box type “USCG-2010-1124” and click “Search.” Click the “Open Docket Folder” in the “Actions” column.

C. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Description of Petition for Rulemaking

Any member of the public may petition the Coast Guard to undertake a rulemaking action. 33 CFR 1.05-20(a). After considering the petition and any other relevant information, the Coast Guard will notify the petitioner of its decision to initiate a rulemaking or not. 33 CFR 1.05-20(b). This notice seeks comment on the rulemaking petition described next.

Marc J. Fink, on behalf of a coalition of maritime organizations, is petitioning the Coast Guard to amend 46 CFR 67.177, Application for foreign rebuilding determination. The petition requests that the Coast Guard—

• Amend major-component test provisions in paragraph (a),

• Amend considerable-parts test provisions in paragraph (b),

• Amend criteria for when vessels altered outside the United States must submit material to the National Vessel Document Center (NVDC) and what materials must be submitted in paragraph (e),

• Amend preliminary rebuilt determinations application requirements in paragraph (g),

• Add a new paragraph (h) requiring the Coast Guard to publish Federal Register notices of applications for a preliminary or final rebuilt determination and to establish procedures that would allow anyone to appeal these application decisions to the Coast Guard Commandant, and

• Add a paragraph (i) requiring the owner of a vessel that is eligible to engage in the coastwise trades that had any work performed on that vessel at a facility outside the United States to submit U.S. Customs and Border Protection Form 226, Record of Vessel Foreign Repair or Equipment Purchase, to the Commandant within 30 days of redelivery of the vessel after such work was completed.

The petition with its three exhibits, available in the docket as indicated under ADDRESSES, includes an expanded discussion on the requested amendments and revisions to 46 CFR 67.177. The complete list of material submitted by the petitioner is as follows:

• M.J. Fink December 9, 2010 letter to MSSC (http://www.regulations.gov/#!documentDetail;D=USCG-2010-1124-0002.1).

• Petition for Rulemaking to Amend 46 CFR 67.177 (http://www.regulations.gov/#!documentDetail;D=USCG-2010-1124-0001.1).

• Exhibit A-1 to Petition to Amend 46 CFR 67.177 (http://www.regulations.gov/#!documentDetail;D=USCG-2010-1124-0003.1).

• Exhibit A-2 to Petition to Amend 46 CFR 67.177 (http://www.regulations.gov/#!documentDetail;D=USCG-2010-1124-0004.1).

• Exhibit B—Shipbuilders Council of America (SCA) Membership List (http://www.regulations.gov/#!documentDetail;D=USCG-2010-1124-0005.1).

The public is invited to review the material contained in the docket and submit relevant comments, including comments on whether rulemaking would be beneficial, or not. The Coast Guard will consider the petition, any comments received from the public, and other information to determine whether or not to initiate the requested rulemaking.

This notice is issued under authority of 33 CFR 1.05-20 and 5 U.S.C. 552(a).

Dated: February 18, 2011.
F.J. Kenney,
Rear Admiral, Judge Advocate General, Chairman, Marine Safety and Security Council.

[FR Doc. 2011-4215 Filed 2-24-11; 8:45 am]

BILLING CODE 9110-04-P